DEPARTMENT OF COMMERCE

International Trade Administration

[A-570-862]

Foundry Coke Products From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on foundry coke products (foundry coke) from the People's Republic of China (China) would likely lead to a continuation or recurrence of dumping and material injury to an industry in the United States, Commerce is publishing a notice of continuation of the AD order on foundry coke from China.

DATES: Applicable May 11, 2018.

FOR FURTHER INFORMATION CONTACT: Paul Walker, AD/CVD Operations, Enforcement and Compliance, International Trade Administration, U.S. Department of Commerce, 1401 Constitution Avenue NW, Washington, DC 20230; Telephone: 202.482.0413.

SUPPLEMENTARY INFORMATION:

Background

On July 31, 2001, Commerce published in the Federal Register its final determination in the less-than-fair value investigation of foundry coke from China.¹ On September 17, 2001, Commerce published the Order on foundry coke from China.² On May 1, 2017, the Department published the notice of initiation of the third sunset review of the Order, pursuant to section 751(c) of the Tariff Act of 1930, as amended (the Act).³ Commerce conducted the sunset review on an expedited basis, pursuant to section 751(c)(3)(B) of the Act and 19 CFR 351.218(e)(1)(ii)(C)(2), because it received a complete and adequate response from domestic interested parties, but no substantive responses from respondent interested parties.⁴ As a result of its expedited sunset review, Commerce determined that revocation of the Order would likely lead to a continuation or recurrence of dumping.⁵ The Department, therefore, notified the ITC of the magnitude of the margins likely to prevail should the Order be revoked. On April 24, 2018, the ITC published notice of its determination, pursuant to section 751(c) of the Act, that revocation of the AD order on foundry coke from China would likely lead to a continuation or recurrence of material injury to an industry in the United States within a reasonably foreseeable time.⁶

¹ See Final Determination or Sales at Less Than Fair Value: Foundry Coke Products from the People's Republic of China, 66 FR 39487 (July 31, 2001).

² See Notice of Amended Final Determination of Sales at Less Than Fair Value and Antidumping Duty Order: Foundry Coke Products from The People's Republic of China, 66 FR 48025 (September 17, 2001) (Order).

³ See Initiation of Five-Year (Sunset) Review, 82 FR 20314 (May 1, 2017).

⁴ See Domestic Producers' submission, “Foundry Coke from China, Third Sunset Review: Substantive Response to Notice of Initiation of Sunset Review,” dated May 31, 2017.

⁵ See Foundry Coke Products from the People's Republic of China Final Results of the Expedited Sunset Reviews of the Antidumping Duty Order, 82 FR 41598 (September 1, 2017).

⁶ See Foundry Coke from China (No. 731-TA-891 (Third Review)), 83 FR 17849 (April 24, 2018).

Scope of the Order

The product covered under the order is coke larger than 100 mm (4 inches) in maximum diameter and at least 50 percent of which is retained on a 100 mm (4 inch) sieve, of a kind used in foundries. The foundry coke products subject to the order are currently classifiable under subheading 2704.00.0011 of the Harmonized Tariff Schedule of the United States (HTSUS). Although the HTSUS subheadings are provided for convenience and Customs purposes, our written description of the scope of the order is dispositive.⁷

⁷ See Foundry Coke Products from the People's Republic of China, 77 FR 34012 (June 8, 2012).

Continuation of the Order

As a result of the determinations by Commerce and the ITC that revocation of the Order would likely lead to a continuation or recurrence of dumping and material injury to an industry in the United States, pursuant to section 751(d)(2) of the Act and 19 CFR 351.218(a), Commerce hereby orders the continuation of the Order on foundry coke from China. U.S. Customs and Border Protection will continue to collect cash deposits at the rates in effect at the time of entry for all imports of subject merchandise.

The effective date of the continuation of the Order will be the date of publication in the Federal Register of this notice of continuation. Pursuant to section 751(c)(2) of the Act, Commerce intends to initiate the next five-year review of the order not later than 30 days prior to the fifth anniversary of the effective date of continuation.

This five-year sunset review and this notice are in accordance with section 751(c) of the Act and published pursuant to section 777(i)(1) of the Act and 19 CFR 351.218(f)(4).

Dated: May 7, 2018.
Gary Taverman,
Deputy Assistant Secretary for Antidumping and Countervailing Duty Operations, performing the non-exclusive functions and duties of the Assistant Secretary for Enforcement and Compliance.

[FR Doc. 2018-10068 Filed 5-10-18; 8:45 am]

BILLING CODE 3510-DS-P